DEPARTMENT OF TRANSPORTATION

Federal Railroad Administration

[Docket Number FRA-2011-0085]

Petition for Extension of Waiver of Compliance

Under part 211 of title 49 Code of Federal Regulations (CFR), this document provides the public notice that on August 29, 2024, BNSF Railway Company (BNSF) petitioned the Federal Railroad Administration (FRA) for an extension of a waiver of compliance from certain provisions of the Federal railroad safety regulations contained at 49 CFR part 213 (Track Safety Standards). The relevant Docket Number is FRA-2011-0085.

Specifically, BNSF seeks an extension of relief from § 213.109(d)(9), Crossties, and § 213.317, Rail fastening systems, to allow BNSF to continue using “three-quarter” concrete crossties at certain locations. The current waiver “permits BNSF to operate trains on concrete crossties in which both rail seats are intact, but only one rail seat permits rail fastening as required under the above-cited regulations.” The crossties must be repositioned “end-for-end, so both rails are secured at every other rail seat.”

BNSF stated, in support of its request, that BNSF has maintained an inventory of locations where these crossties are installed and, when replacing these crossties for normal maintenance, brought the locations into compliance with the appropriate regulations. Additionally, BNSF noted that since the issuance of the waiver, no derailments caused by the crossties have occurred on the subject track segments. BNSF added that no passenger trains operate over the subject locations.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at www.regulations.gov. Follow the online instructions for submitting comments.

Communications received by December 23, 2024 will be considered by FRA before final action is taken. Comments received after that date will be considered if practicable.

Anyone can search the electronic form of any written communications and comments received into any of the U.S. Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-24454 Filed 10-21-24; 8:45 am]

BILLING CODE 4910-06-P